DEPARTMENT OF TRANSPORTATION

Federal Motor Carrier Safety Administration

49 CFR Parts 380, 383, and 384

[Docket No. FMCSA-2007-27748]

RIN 2126-AB66

Minimum Training Requirements for Entry-Level Commercials Drivers' License Applicants; Consideration of Negotiated Rulemaking Process

AGENCY: Federal Motor Carrier Safety Administration (FMCSA), DOT.

ACTION: Notice of intent; correction.

SUMMARY: This document makes a correction to a notice published in the Federal Register on August 19, 2014, regarding entry-level driver training; consideration of negotiated rulemaking process. The correction involves a clarification of the contractual relationship that FMCSA has with the convener, Mr. Richard Parker.

DATES: September 22, 2014.

FOR FURTHER INFORMATION CONTACT: Mr. Richard Clemente, Transportation Specialist, FMCSA, Office of Bus and Truck Standards and Operations, 202-366-4325 or mcpsd@dot.gov.

SUPPLEMENTARY INFORMATION:

For FMCSA's notice published on August 19, 2014, (79 FR 49044), the following correction is made:

On page 49044, in column 3, the first sentence of the last full paragraph, is changed to read: “FMCSA has retained a neutral convener, Mr. Richard Parker, a professor of law at the University of Connecticut School of Law, through a contractor, Strategic Consulting Alliances, LLC to undertake this initial stage in the Reg Neg process.”

Issued on: September 15, 2014.
Larry W. Minor,
Associate Administrator for Policy.

[FR Doc. 2014-22304 Filed 9-19-14; 8:45 am]

BILLING CODE 4910-EX-P